DEPARTMENT OF TRANSPORTATION

Federal Aviation Administration

14 CFR Part 73

[Docket No. FAA-2012-1150; Airspace Docket No. 12-ANE-16]

RIN 2120-AA66

Amendment of Time of Designation for Restricted Area R-6501B; Underhill, VT

AGENCY: Federal Aviation Administration (FAA), DOT.

ACTION: Final rule.

SUMMARY: This action amends the time of designation for restricted area R-6501B, Underhill, VT by adding a requirement for issuance of a Notice to Airmen (NOTAM) 24 hours in advance of any activation of the restricted area. This action does not affect the boundaries, altitudes or activities conducted within the area.

DATES: Effective date 0901 UTC, January 10, 2013.

FOR FURTHER INFORMATION CONTACT: Paul Gallant, Airspace Policy and ATC Procedures Group, AJV-11, Office of Airspace Services, Federal Aviation Administration, 800 Independence Avenue SW., Washington, DC 20591; telephone: (202) 267-8783.

SUPPLEMENTARY INFORMATION:

Background

The current time of designation of restricted area R-6501B reads “Intermittent.” The term “intermittent” signifies limited or infrequent use the area. FAA Order 7400.2 requires that an “intermittent” time of designation for special use airspace areas must include either an associated time period or a “by NOTAM” provision. In all cases, an `intermittent” time of designation must not be used for restricted areas without a “by NOTAM” provision.

The Rule

This action amends Title 14 Code of Federal Regulations (14 CFR) part 73 by changing the time of designation for Restricted area R-6501B, Underhill, VT, from “Intermittent” to “Intermittent by NOTAM 24 hours in advance.” This change brings the time of designation into compliance with FAA Order 7400.2 requirements.

This change adds a NOTAM requirement to the time of designation of R-6501B. The change benefits the flying public by providing advance notice of planned activation periods of the restricted area. Because the amendment does not affect the boundaries, designated altitudes, or activities conducted within the restricted area and provides the public with advance notice of restricted area usage, notice and public procedures under 5 U.S.C. 553(b) are unnecessary.

The FAA has determined that this action only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action qualifies for categorical exclusion under the National Environmental Policy Act in accordance with 311d., FAA Order 1050.1E, Environmental Impacts: Policies and Procedures. This airspace action is an administrative change to the description of the affected restricted area to clarify the time of designation. It does not alter the dimensions, altitudes, or activities conducted within the airspace; therefore, it is not expected to cause any potentially significant environmental impacts, and no extraordinary circumstances exists that warrant preparation of an environmental assessment.

List of Subjects in 14 CFR Part 73

Airspace, Prohibited areas, Restricted areas.

Adoption of the Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.65 [Amended]

2. Section 73.65 is amended as follows:

* * * * *

R-6501B Underhill, VT [Amended]

* * * * *

By removing the word “Intermittent” under Time of designation. and inserting the words “Intermittent by NOTAM 24 hours in advance.”

* * * * *

Issued in Washington, DC, on November 14, 2012.
Gary A. Norek,
Manager, Airspace Policy and ATC Procedures Group.

[FR Doc. 2012-30806 Filed 12-21-12; 8:45 am]

BILLING CODE 4910-13-P